DEPARTMENT OF STATE

[Public Notice: 12144]

Industry Advisory Group: Notice of Charter Renewal; Notice of Open Meeting

Charter renewal: The Department of State announces the renewal of the charter of the Industry Advisory Group (IAG). This committee serves the U.S. government in a solely advisory capacity concerning industry and academia's latest concepts, methods, best practices, innovations, and ideas related to the OBO mission of providing safe, secure, functional, and resilient facilities that represent the U.S. government to the host nation and support the Department's achievement of U.S. foreign policy objectives abroad.

Notice of Meeting: The IAG will meet on Thursday, September 21, 2023, from 8:30 a.m. until 5:30 p.m. Eastern Daylight Time. The meeting will be in-person and open to the public from 1:00 p.m.-5:30 p.m. at the U.S. Department of State, located at 2201 C Street NW Washington, DC.

The meeting will largely be devoted to discussions between the Department's senior management and IAG representatives with respect to industry and academia's latest concepts, methods, best practices, innovations, and ideas related to supporting OBO's vital mission. Additionally, time will be provided for members of the public to provide comment.

The public may attend this meeting in-person as seating capacity allows. Admittance to the State Department building will be by means of a pre-arranged clearance list. An open registration announcement will be posted on OBO's website, www.state.gov/obo, and sent through OBO's distribution list approximately 30 days prior to the event date. Those interested in joining OBO's distribution list for additional information on the IAG meeting and other events should visit our sign-up page, https://visitor.r20.constantcontact.com/manage/optin?v=001d8EWtZhzr9vk2LP58NdScTQkB3xh8MgQtPak2ggYZjmdWSw6Hjj3BVXcLPZCovDo0wUdyb9h8VCs90ZQ6UFCLTtKCJfYnpwN3Q_V5mw0PiM%3D.

Please forward any requests for reasonable accommodation by September 1. You can also visit the OBO website at www.state.gov/obo for additional information. Requests for reasonable accommodation made after that date will be considered but may not be able to be fulfilled.

Please contact Lauren Luckett, email: luckettla@state.gov, Phone: 516.818.4439 with any questions.

Zachary A. Parker,
Director, Office of Directives Management, U.S. Department of State.

[FR Doc. 2023-17761 Filed 8-17-23; 8:45 am]

BILLING CODE 4710-51-P